DEPARTMENT OF COMMERCE

Submission for OMB Review; Comment Request

The Department of Commerce will submit to the Office of Management and Budget (OMB) for clearance the following proposal for collection of information under the emergency provisions of the Paperwork Reduction Act (44 U.S.C. Chapter 35).

Agency: National Telecommunications and Information Administration (NTIA).

Title: Broadband Subscription and Usage Survey (Supplement to Census Bureau's Current Population Survey).

OMB Control Number: 0660-0021.

Form Number(s): None.

Type of Request: Emergency submission (revision of a currently approved information collection).

Number of Respondents: 54,000.

Average Time per Response: 10 minutes.

Burden Hours: 9,000.

Needs and Uses: NTIA proposes to add 52 questions to the U.S. Census Bureau's July 2011 Current Population Survey (CPS) in order to gather reliable data on broadband (also known as high-speed Internet) use by U.S. households. President Obama has established a national goal of universal, affordable broadband access for all Americans.¹ To that end, the Administration is working with Congress, the Federal Communications Commission (FCC), and other stakeholders to develop and advance economic and regulatory policies that foster broadband deployment and adoption. Current, systematic, and comprehensive data on broadband access and non-use by U.S. households is critical to allow policymakers not only to gauge progress made to date, but also to identify problem areas with a specificity that permits carefully targeted and cost effective responses.

¹ See http://www.whitehouse.gov/sites/default/files/20091217-recovery-act-investments-broadband.pdf (last viewed May 11, 2010).

The need for comprehensive broadband data has become more crucial. On February 10, 2011, during a speech in Marquette, Michigan, the President announced his “national wireless initiative,” calling for extending the next (4G) generation of wireless service to 98 percent of the country over the next five years. The Government Accountability Office (GAO), NTIA, and the FCC recently issued reports noting the lack of useful broadband data for policymakers, and Congress passed legislation—the Broadband Data Improvement Act in 2008 and the American Recovery and Reinvestment Act in 2009—wholly or partly in response to such criticisms. The Organization for Economic Cooperation and Development (OECD) has ranked the United States low in the number of households with broadband access over the past several years despite a period of rapid growth in the technology's penetration. The OECD looks to Census data as an important input into their inter-country benchmark analyses. Modifying the July 2011 CPS to include NTIA's requested broadband data questions will allow the Commerce Department and NTIA to inform the President's new wireless initiative, respond to Congressional concerns and directives, and work with the OECD in analyzing more recent data.

Affected Public: Individuals and households.

Frequency: Once.

Respondent's Obligation: Voluntary.

OMB Desk Officer: Nicholas Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Nicholas Fraser, OMB Desk Officer, Fax number (202) 395-7285, or via the Internet at

Dated: May 10, 2011.
Gwellnar Banks,
Management Analyst, Office of the Chief Information Officer.

[FR Doc. 2011-11751 Filed 5-12-11; 8:45 am]

BILLING CODE 3510-06-P